DEPARTMENT OF COMMERCE

International Trade Administration

[A-570-912]

Notice of Correction of Initiation of Antidumping Duty Investigation: Certain New Pneumatic Off-The-Road Tires From the People's Republic of China

AGENCY: Import Administration, International Trade Administration, Department of Commerce.

EFFECTIVE DATE: August 20, 2007.

FOR FURTHER INFORMATION CONTACT: Laurel LaCivita or Charles Riggle, AD/CVD Operations, Office 8, Import Administration, International Trade Administration, U.S. Department of Commerce, 14th Street and Constitution Avenue, NW., Washington, DC 20230; telephone: (202) 482-4243 or (202) 482-0650, respectively.

Correction:

On August 6, 2007, the Department of Commerce (“Department”) published the notice of initiation of the antidumping duty investigation of certain new pneumatic off-the-road tires from the People's Republic of China. See Initiation of Antidumping Duty Investigation: Certain New Pneumatic Off-the-Road Tires From the People's Republic of China, 72 FR 43591 (August 6, 2007) (“Initiation Notice”). Subsequent to the signature of the Initiation Notice, we identified an inadvertent error in the above-referenced notice.

Specifically, the due date for the submission of the separate-rate application was inadvertently identified as August 20, 2007, in the Initiation Notice. The correct due date is September 28, 2007.

Conclusion:

This notice serves solely to correct the due date for the separate rate-application as it appeared in the Initiation Notice. The Department's findings in the Initiation Notice remain unchanged. This notice is issued and published in accordance with section 777(i) of the Tariff Act of 1930, as amended.

Dated: August 13, 2007.
Gary Taverman,
Acting Deputy Assistant Secretary for Import Administration.

[FR Doc. E7-16326 Filed 8-17-07; 8:45 am]

BILLING CODE 3510-DS-S